DEPARTMENT OF THE TREASURY

Customs Service

19 CFR Part 159

[T.D. 01-24]

RIN 1515-AC30

Foreign Repairs to American Vessels; Correction

AGENCY: U.S. Customs Service, Department of the Treasury.

ACTION: Final rule; correction.

SUMMARY: This document contains a correction to the final regulations (T.D. 01-24), which were published in the Federal Register on Monday, March 26, 2001. The regulations related to the requirements regarding the declaration, entry, assessment of duty and processing of petitions for relief from duty for vessels of the United States which undergo foreign shipyard operations.

EFFECTIVE DATE: April 25, 2001.

FOR FURTHER INFORMATION CONTACT: Russell A. Berger, Regulations Branch, (202-927-1605).

SUPPLEMENTARY INFORMATION:

Background

The final regulations regarding foreign repairs to American vessels were published as T.D. 01-24 in the Federal Register (66 FR 16392) on Monday, March 26, 2001. In particular, these final regulations set forth the requirements regarding the declaration, entry, assessment of duty and processing of petitions for relief from duty for vessels of the United States which undergo foreign shipyard operations. The final rule document contained an error which could prove to be misleading and is in need of clarification.

Need for Correction

Specifically, the final rule document amended the authority citation for part 159, Customs Regulations (19 CFR part 159), by moving specific authority citations for certain regulatory sections in the part to the authority citation section set forth at the beginning of the part from parenthetical references set forth immediately following the text of the particular sections. However, it has come to Customs attention that these same changes relating to the authority citation for part 159 were previously made in an interim rule document that was published in the Federal Register (64 FR 56433) on October 20, 1999, as T.D. 99-75.

Correction of Publication

Accordingly, the publication on March 26, 2001, of the final regulations concerning foreign repairs to American vessels (T.D. 01-24) (FR Doc. 01-7325) is corrected as follows:

1. On page 16399, in the third column, under the heading, “PART 159—LIQUIDATION OF DUTIES”, correct amendatory instruction number 1 to read: “The authority citation for part 159 continues to read as follows:”

2. On page 16400, in the first column, under the heading, “PART 159—LIQUIDATION OF DUTIES”, remove amendatory instruction number 2.

3. On page 16400, in the first and second columns, again under the heading, “PART 159—LIQUIDATION OF DUTIES”, renumber amendatory instruction numbers 3, 4 and 5 as amendatory instruction numbers 2, 3, and 4, respectively.

Dated: April 19, 2001.
Harold M. Singer,
Chief, Regulations Branch.

[FR Doc. 01-10163 Filed 4-23-01; 8:45 am]

BILLING CODE 4820-02-P